DEPARTMENT OF TRANSPORTATION

Research and Innovative Technology Administration

[Docket No. BTS-2005-22232]

Notice of Request for Clearance of a New Information Collection: National Ferry Database

AGENCY: Bureau of Transportation Statistics (BTS), Research and Innovative Technology Administration (RITA), DOT.

ACTION: Notice and request for comments.

SUMMARY: In accordance with the requirements of section 3506(c)(2)(A) of the Paperwork Reduction Act of 1995, this notice announces the intention of the BTS to request the Office of Management and Budget's (OMB's) approval for a new information collection related to the Nation's ferry operations. The information to be collected will be used to inventory existing ferry operations and to periodically update the report required by the Transportation Equity Act for the 21st Century (TEA-21) (P.L. 105-178), section 1207(c).

DATES: Comments must be submitted on or before October 31, 2005.

ADDRESSES: You can mail or hand-deliver comments to the U.S. Department of Transportation (DOT), Dockets Management System (DMS). You may submit your comments by mail or in person to the Docket Clerk, Docket No. BTS-2005-22232, U.S. Department of Transportation, 400 Seventh Street, SW., Room PL-401, Washington, DC 20590-0001. Comments should identify the docket number; paper comments should be submitted in duplicate. The DMS is open for examination and copying, at the above address, from 9 a.m. to 5 p.m., Monday through Friday, except federal holidays. If you wish to receive confirmation of receipt of your written comments, please include a self-addressed, stamped postcard with the following statement: “Comments on Docket BTS-2005-22232.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251.

If you wish to file comments using the Internet, you may use the DOT DMS Web site at http://dms.dot.gov. Please follow the online instructions for submitting an electronic comment. You can also review comments on-line at the DMS Web site at http://dms.dot.gov. The electronic docket is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://dms.dot.gov.

FOR FURTHER INFORMATION CONTACT: Ms. June Taylor Jones, (202) 366-4743 Passenger Travel Program Manager, BTS, RITA, Department of Transportation, 400 Seventh Street, SW., Washington, DC 20590. Office hours are from 7:30 a.m. to 5 p.m., e.t., Monday through Friday, except Federal holidays.

SUPPLEMENTARY INFORMATION: Title: National Ferry Database.

Background: The Transportation Equity Act for the 21st Century (TEA-21) (Pub. L. 105-178), section 1207(c), directed the Secretary of Transportation to conduct a study of ferry transportation in the United States and its possessions. In 2000, the Federal Highway Administration (FHWA) Office of Intermodal and Statewide Planning conducted a survey of approximately 250 ferry operators to identify: (1) Existing ferry operations including the location and routes served; (2) source and amount, if any, of funds derived from Federal, State, or local governments supporting ferry construction or operations; (3) potential domestic ferry routes in the United States and its possessions and to develop information on those routes; and (4) potential for use of high speed ferry services and alternative-fueled ferry services. The Safe, Accountable, Flexible Efficient Transportation Equity Act—A Legacy for Users (SAFETEA-LU; H.R. 3, Section 1801(e)) requires that the Secretary, acting through the BTS, shall establish and maintain a national ferry database containing current information regarding routes, vessels, passengers and vehicles carried, funding sources and such other information as the Secretary considers useful.

The new data collection will rely on a written survey and telephone follow-up. An electronic version of the questionnaire will also be available to respondents on request. Data will be collected from the entire population of ferry operators (estimate 300 or less). Before the survey begins, the Passenger Vessel Association will mail letters to its respective members advising them of the purpose of the survey and encouraging their participation. The survey will request the respondents to provide information such as: (1) The points served; (2) the amount and source of Federal, State, and/or local funds used in the past 24 months; (3) the type of ownership; (4) the number of passengers and vehicles carried in the past 12 months; (5) any new routes expected to be added within the next five years; and (6) the highways that are connected by the ferries.

Respondents: The target population for the survey will be all of the approximately 300 operators of existing ferry services in the United States.

Estimated Average Burden per Response: The burden per respondent is estimated to be an average of 20 minutes. This average is based on an estimate of 10 minutes to answer new questions and an additional 5-15 minutes to review (and revise as needed) previously submitted data.

Estimated Total Annual Burden: The total annual burden is estimated to be 100 hours (that is 20 minutes per respondent for 300 respondents equals 6,000 minutes or 100 hours).

Frequency: This survey will be updated every other year.

Public Comments Invited: Interested parties are invited to send comments regarding any aspect of this information collection, including, but not limited to: (1) The necessity and utility of the information collection for the proper performance of the functions of the DOT; (2) the accuracy of the estimated burden; (3) ways to enhance the quality, utility, and clarity of the collected information; and (4) ways to minimize the collection burden without reducing the quality of the collected information. Comments submitted in response to this notice will be summarized and/or included in the request for OMB's clearance of this information collection.

Authority: The Transportation Equity Act for the 21st Century, (Pub. L. 105-178), section 1207(c) and H.R. 3, The Safe, Accountable, Flexible Efficient Transportation Equity Act—A Legacy for Users (SAFETEA-LU) 2005 and 49 CFR 1.46.

Issued in Washington, DC on the 24th day of August, 2005.
Mary Hutzler,
Associate Director, Office of Statistical Programs, Bureau of Transportation Statistics, Research and Innovative Technology Administration.

[FR Doc. 05-17212 Filed 8-29-05; 8:45 am]

BILLING CODE 4910-HY-P